ENVIRONMENTAL PROTECTION AGENCY

[EPA-R5-Superfund V-W-19-C-001; FRL-9987-21-Region 5]

Proposed CERCLA Administrative Settlement Agreement; A&L Iron and Metal Company, Inc.

AGENCY: Environmental Protection Agency (EPA).

ACTION: Notice of proposed settlement agreement and request for public comments.

SUMMARY: The Environmental Protection Agency (EPA) hereby gives notice of a proposed Administrative Settlement Agreement (Settlement) pertaining to collection of Past Response Costs for a Fund-lead Removal Action occurring between 2014 and 2015, at an approximately 16-acre former industrial equipment manufacturing facility in Saginaw (Saginaw County), Michigan, the Baker Perkins Superfund Site (“Site”). The Settlement requires A&L Iron and Metal Company, Inc. (“A&L”) to pay $1,611,788.29 (plus an additional sum for interest on that amount calculated from March 31, 2018 through the date of payment to EPA) for EPA's Past Response Costs within 45 days of the Effective Date of the Settlement, in return for a covenant against any and all liability for EPA Response Costs at the Site, and contribution protection against any and all other liable parties.

DATES: Comments must be post marked or received on or before January 2, 2019.

ADDRESSES: The proposed settlement agreement and related site documents can be viewed at the Superfund Records Center, (SRC-7J), United States Environmental Protection Agency, Region 5, 77 W. Jackson Blvd., Chicago, IL 60604, (312) 886-4465 and on-line at www.epa.gov/superfund/baker_perkins.

FOR FURTHER INFORMATION CONTACT: Further information or a copy of the Settlement may be obtained from either Thomas P. Turner, Office of Regional Counsel (C-14J), U.S. Environmental Protection Agency, Region 5, 77 W Jackson Boulevard, Chicago, Illinois 60604, (312) 886-6613 or turner.thomas@epa.gov or Superfund Division Enforcement Specialist Mike Rafati, Superfund Division (SR-5J), U.S. Environmental Protection Agency, Region 5, 77 W Jackson Boulevard, Chicago, Illinois 60604, (312) 886-0390 or rafati.michael@epa.gov.

SUPPLEMENTARY INFORMATION:

I. Background Information

In accordance with Section 122 (i) of the Comprehensive Environmental Response, Compensation, and Liability Act, as amended (“CERCLA”), 42 U.S.C. 9622 (i), notice is hereby given of a proposed Settlement pertaining to the Baker Perkins Superfund Site in Saginaw, Saginaw County, Michigan, with the following settling party: A&L Iron and Metal Company, Inc. The Settlement requires A&L to pay $1,611,788.29 (plus an additional sum for interest on that amount calculated from March 31, 2018 through the date of payment to EPA) for EPA's Past Response Costs within 45 days of the Effective Date of the Settlement.

The Settlement includes an EPA covenant not to sue the settling party and contribution protection, pursuant to Sections 107(a), 113(f)(2), and 122(h)(4) of CERCLA, 42 U.S.C. Sections 9607(a), 9613(f)(2), and 9622(h)(4).

II. Opportunity To Comment

A. General Information

For thirty (30) days following the date of publication of this notice, the Agency will receive written comments relating to the Settlement. The Agency will consider all comments received and may modify or withdraw its consent to the Settlement if comments received disclose facts or considerations which indicate that the Settlement is inappropriate, improper, or inadequate.

B. Where do I send my comments or view responses?

Your comments should be mailed to Mike Rafati, Superfund Division (SR-5J), U. S. Environmental Protection Agency, Region 5, 77 W Jackson Boulevard, Chicago, Illinois 60604, or rafati.michael@epa.gov. The Agency's response to any comments received will be available for public inspection at the Superfund Records Center.

C. What should I consider as I prepare my comments for EPA?

1. Submitting Confidential Business Information (CBI). Do not submit such information to EPA through an agency website or via email. Clearly mark the part or all the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (site name, Federal Register date and page number).

• Follow directions—the agency may ask you to respond to specific questions or organize comments by referencing a Code of Federal Regulations (CFR) part or section number.

• Explain why you agree or disagree with the terms of the Settlement; suggest alternatives and substitute language for your requested changes.

• Describe any assumptions and provide any technical information and/or data that you used.

• If you estimate potential costs or burdens, explain how you arrived at your estimate in sufficient detail to allow for it to be reproduced.

• Provide specific examples to illustrate your concerns and suggest alternatives.

• Explain your views as clearly as possible, avoiding the use of profanity or personal threats.

• Make sure to submit your comments by the identified comment period deadline.

Dated: November 14, 2018.
Douglas A. Ballotti,
Acting Director, Superfund Division.

[FR Doc. 2018-26230 Filed 11-30-18; 8:45 am]

BILLING CODE 6560-50-P